DEPARTMENT OF AGRICULTURE

Foreign Agricultural Service

Commodity Credit Corporation

Notice of Request for Extension of Currently Approved Information Collection

Correction

In notice document 2022-10573, appearing on pages 29848-29849, in the issue of Tuesday, May 17, 2022, make the following correction:

On page 29848, in the second column, in the DATES section, in the second line, “May 17, 2022” should read “July 18, 2022”.

[FR Doc. C1-2022-10573 Filed 6-7-22; 8:45 am]

BILLING CODE 0099-10-D